DEPARTMENT OF EDUCATION

National Advisory Council on Indian Education; Meeting

AGENCY: U.S. Department of Education.

ACTION: Notice of an open meeting.

SUMMARY: Notice of this meeting is required by Section 10(a)(2) of the Federal Advisory Committee Act (FACA) and is intended to notify members of the public of an upcoming National Advisory Council on Indian Education (NACIE) open teleconference meeting. Pursuant to 41 CFR 102-3.150, notice for this meeting is given less than 15 calendar days prior to the meeting due to exceptional circumstances. It is imperative that the Council hold the meeting as scheduled to complete the annual report on the activities of the Council for fiscal year 2021, as required under 20 U.S.C. 7471, and to accommodate the scheduling priorities of the members to ensure a quorum will be present.

DATES: The NACIE open virtual meeting will be held on November 2, 2021 from 1:00-4:00 p.m. (EDT).

FOR FURTHER INFORMATION CONTACT: Angela Hernandez, Designated Federal Official, Office of Elementary and Secondary Education (OESE)/Office of Indian Education (OIE), U.S. Department of Education, 400 Maryland Avenue SW, Room 3W113, Washington, DC 20202. Telephone: 202-205-1909, Email: Angela.Hernandez@ed.gov.

SUPPLEMENTARY INFORMATION: Statutory Authority and Function: NACIE is authorized by Section 6141 of the Elementary and Secondary Education Act of 1965. NACIE is established within the U.S. Department of Education to advise the Secretary of Education (Secretary) and the Secretary of Interior on the funding and administration (including the development of regulations, and administrative policies and practices) of any program over which the Secretary has jurisdiction and that includes Indian children or adults as participants or that may benefit Indian children or adults, including any program established under Title VI, Part A of the Elementary and Secondary Education Act. In addition, NACIE advises the White House Initiative on American Indian and Alaska Native Education, in accordance with Section 5(a) of Executive Order 13592. NACIE submits to the Congress each year a report on its activities that includes recommendations that are considered appropriate for the improvement of Federal education programs that include Indian children or adults as participants or that may benefit Indian children or adults, and recommendations concerning the funding of any such program.

Meeting Agenda: The purpose of the meeting is to convene NACIE to conduct the following business: (1) Department and OIE updates, (2) updates on Executive actions, and (3) preparation of the FY 2021 Annual Report.

Instructions for Accessing the Meeting: Members of the public may access the NACIE meeting by dial-in listen only access. Up to 100 lines will be available to participants of on a first come, first serve basis. The dial-in phone number for the virtual meeting is 1-415-655-0001 U.S. Toll, access code: 2340 154 0540, and the web link to register to participate via WebEx is https://manhattan-strategy.webex.com/manhattan-strategy/j.php?RGID=r841388576d00772a51f1a84182cbd11a.

Public Comment: Members of the public interested in submitting written comments pertaining to the work of NACIE may do so via email to Angela.Hernandez@ed.gov. Please note, written comments should pertain to the work of NACIE.

Reasonable Accommodations: The teleconference meeting is accessible to individuals with disabilities. If you will need an auxiliary aid or service for the meeting (e.g., interpreting service, assistive listening device, or materials in an alternate format), notify the contact person listed in this notice not later than October 21, 2021. Although we will attempt to meet a request received after that date, we may not be able to make available the requested auxiliary aid or service because of insufficient time to arrange it.

Access to Records of the Meeting: The Department will post the official open meeting report of this meeting on the OESE website at: https://oese.ed.gov/offices/office-of-indian-education/national-advisory-council-on-indian-education-oie/ 21 days after the meeting. Pursuant to the FACA, the public may also inspect NACIE records at the Office of Indian Education, United States Department of Education, 400 Maryland Avenue SW, Washington, DC 20202, Monday-Friday, 8:30 a.m. to 5:00 p.m. Eastern Time. Please email Angela.Hernandez@ed.gov to schedule an appointment. Our ability to provide an inspection opportunity is limited due to potential novel coronavirus (COVID-19) restrictions.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: § 6141 of the Elementary and Secondary Education Act of 1965 (ESEA) as amended by Every Student Succeeds Act (ESSA) (20 U.S.C. 7471)

Ian Rosenblum,
Deputy Assistant Secretary for Policy and Programs, Delegated the Authority to Perform the Functions and Duties of the Assistant Secretary of the Office of Elementary and Secondary Education.

[FR Doc. 2021-23230 Filed 10-22-21; 8:45 am]

BILLING CODE 4000-01-P